DEPARTMENT OF AGRICULTURE

Food and Nutrition Service

Summer Food Service Program; 2026 Reimbursement Rates

AGENCY: Food and Nutrition Service, USDA.

ACTION: Notice.

SUMMARY: This notice informs the public of the annual adjustments to the reimbursement rates for meals served in the Summer Food Service Program. These adjustments address changes in the Consumer Price Index, as required under the Richard B. Russell National School Lunch Act. The 2026 reimbursement rates are presented as a combined set of rates to highlight simplified cost accounting procedures. The 2026 rates are also presented individually as separate operating and administrative rates of reimbursement, to show the effect of Consumer Price Index adjustments on each rate. On average, the 2026 rates adjustment represents a 3.7 percent increase in the rates from last year.

DATES: This adjustment is applicable January 1, 2026.

FOR FURTHER INFORMATION CONTACT: Penny Burke, Program Monitoring and Operational Support Division, Child Nutrition Programs, Food and Nutrition Service, United States Department of Agriculture, 1320 Braddock Place, Suite 401, Alexandria, Virginia 22314. Tel. (720) 822-8597.

SUPPLEMENTARY INFORMATION: The Summer Food Service Program (SFSP) is listed in the Assistance Listings under No. 10.559 and is subject to the provisions of Executive Order 12372, which requires intergovernmental consultation with state and local officials. (See 2 CFR part 415 and final rule related notice published at 48 FR 29114, June 24, 1983.)

In accordance with the Paperwork Reduction Act of 1995, 44 U.S.C. 3501-3520, no new recordkeeping or reporting requirements have been included that are subject to approval from the Office of Management and Budget.

This notice is not a rule as defined by the Regulatory Flexibility Act, 5 U.S.C. 601-612, and thus is exempt from the provisions of that Act. Additionally, this notice has been determined to be exempt from formal review by the Office of Management and Budget under Executive Order 12866.

Definitions

The terms used in this notice have the meaning ascribed to them under 7 CFR part 225 of the SFSP regulations.

Background

This notice informs the public of the annual adjustments to the reimbursement rates for meals served in SFSP. In accordance with sections 12(f) and 13, 42 U.S.C. 1760(f) and 1761 of the Richard B. Russell National School Lunch Act (NSLA) and SFSP regulations under 7 CFR part 225, USDA announces the adjustments in SFSP payments for meals served to participating children during calendar year 2026.

The 2026 reimbursement rates are presented as a combined set of rates to highlight simplified cost accounting procedures. Reimbursement is based solely on a “meals times rates” calculation, without comparison to actual or budgeted costs.

Sponsors receive reimbursement that is determined by the number of reimbursable meals served multiplied by the combined rates for food service operations and administration. However, the combined rate is based on separate operating and administrative rates of reimbursement, each of which is adjusted differently for inflation.

Calculation of Rates

The combined rates are constructed from individually authorized operating and administrative reimbursements. Simplified procedures provide flexibility, enabling sponsors to manage their reimbursements to pay for any allowable cost, regardless of the cost category. Sponsors remain responsible, however, for ensuring proper administration of the program, while providing the best possible nutrition benefit to children.

The operating and administrative rates are calculated separately. However, the calculations of adjustments for both cost categories are based on the same set of changes in the Food Away from Home series of the Consumer Price Index for All Urban Consumers, published by the Bureau of Labor Statistics of the United States Department of Labor. They represent a 3.7 percent increase in the series for the 12-month period from November 2024 through November 2025 (from 373.530 in November 2024 to 387.202 in November 2025).

Table of 2026 Reimbursement Rates

Presentation of the 2026 maximum per meal rates for meals served to children in SFSP combines the results from the calculations of operational and administrative payments, which are further explained in this notice. The total amount of payments to state agencies for disbursement to SFSP sponsors is based upon these adjusted combined rates and the number of meals of each type served. These adjusted rates are in effect from January 1, 2026, through December 31, 2026.

These Changes Are Reflected Below

All States except Alaska and Hawaii—Rural or Self-prep Sites—Breakfast—3 dollars and 19.75 cents (11 cents increase from the 2025 reimbursement rate), Lunch or Supper—5 dollars and 60 cents (19.75 cents increase), Snack—1 dollar and 32.50 cents (4.50 cents increase); All Other Types of Sites—Breakfast—3 dollars and 13.75 cents (10.75 cents increase), Lunch or Supper—5 dollars and 51 cents (19.50 cents increase), Snack—1 dollar and 29.50 cents (4.50 cents increase).

Alaska—Rural or Self-prep Sites—Breakfast—5 dollars and 17.75 cents (17.75 cents increase), Lunch or Supper—9 dollars and 8 cents (32 cents increase), Snack—2 dollars and 15.25 cents (7.75 cents increase); All Other Types of Sites—Breakfast—5 dollars and 8 cents (17.25 cents increase), Lunch or Supper—8 dollars and 93.25 cents (31.50 cents increase), Snack—2 dollars and 10.50 cents (7.75 cents increase).

Guam, Hawaii, Puerto Rico, and the U.S. Virgin Islands—Rural or Self-prep Sites—Breakfast—4 dollars and 15.50 cents (14.25 cents increase), Lunch or Supper—7 dollars and 29 cents (26.50 cents increase), Snack—1 dollar and 72.75 cents (6.75 cents increase); All Other Types of Sites—Breakfast—4 dollars and 7.75 cents (14.25 cents increase), Lunch or Supper—7 dollars and 17.25 cents (26 cents increase), Snack—1 dollar and 68.75 cents (6.50 cents increase).

2026 Reimbursement Rates (Combined)

Operating Rates

The portion of the SFSP rates for operating costs is based on payment amounts set in section 13(b)(1) of the NSLA, 42 U.S.C. 1761(b)(1). They are rounded down to the nearest whole cent, as required by section 11(a)(3)(B)(iii) of the NSLA, 42 U.S.C. 1759a(a)(3)(B)(iii).

These Changes Are Reflected Below

All States except Alaska and Hawaii—Breakfast—2 dollars and 91 cents (10 cents increase from the 2025 reimbursement rate), Lunch or Supper—5 dollars and 7 cents (18 cents increase), Snack—1 dollar and 18 cents (4 cents increase).

Alaska—Breakfast—4 dollars and 71 cents (16 cents increase), Lunch or Supper—8 dollars and 22 cents (29 cents increase), Snack—1 dollar and 92 cents (7 cents increase).

Guam, Hawaii, Puerto Rico, and the U.S. Virgin Islands—Breakfast—3 dollars and 78 cents (13 cents increase), Lunch or Supper—6 dollars and 60 cents (24 cents increase), Snack—1 dollar and 54 cents (6 cents increase).

Operating Component of 2026 Reimbursement Rates

Administrative Rates

The administrative cost component of the reimbursement is authorized under section 13(b)(3) of the NSLA, 42 U.S.C. 1761(b)(3). Rates are higher for sponsors of sites located in rural areas and for “self-prep” sponsors that prepare their own meals at the SFSP site or at a central facility, instead of purchasing meals from vendors. The administrative portions of SFSP rates are adjusted, either up or down, to the nearest quarter-cent.

These Changes Are Reflected Below

All States except Alaska and Hawaii—Rural or Self-prep Sites—Breakfast—28.75 cents (1 cent increase from the 2025 reimbursement rate), Lunch or Supper—53 cents (1.75 cents increase), Snack—14.50 cents (0.50 cents increase); All Other Types of Sites—Breakfast—22.75 cents (0.75 cents increase), Lunch or Supper—44 cents (1.50 cents increase), Snack—11.5 cents (0.50 cents increase).

Alaska—Rural or Self-prep Sites—Breakfast—46.75 cents (1.75 cents increase), Lunch or Supper—86 cents (3 cents increase), Snack—23.25 cents (0.75 cents increase); All Other Types of Sites—Breakfast—37 cents (1.25 cent increase), Lunch or Supper—71.25 cents (2.50 cents increase), Snack—18.50 cents (0.75 cents increase).

Guam, Hawaii, Puerto Rico, and the U.S. Virgin Islands—Rural or Self-prep Sites—Breakfast—37.50 cents (1.25 cents increase), Lunch or Supper—69 cents (2.50 cents increase), Snack—18.75 cents (0.75 cents increase); All Other Types of Sites—Breakfast—29.75 cents (1.25 cents increase), Lunch or Supper—57.25 cents (2 cents increase), Snack—14.75 cents (0.50 cents increase).

Administrative Component of 2026 Reimbursement Rates

Authority: Sections 9, 13, and 14, Richard B. Russell National School Lunch Act, 42 U.S.C. 1758, 1761, and 1762a, respectively.

Patrick A. Penn,
Deputy Under Secretary, Food, Nutrition, and Consumer Services.

[FR Doc. 2026-02216 Filed 2-3-26; 8:45 am]

BILLING CODE 3410-30-P